DEPARTMENT OF VETERANS AFFAIRS

Enhanced-Use Lease (EUL) of Department of Veterans Affairs (VA) Real Property for the Development of Permanent Housing in Topeka, KS

AGENCY: Department of Veterans Affairs.

ACTION: Notice of intent to enter into an Enhanced-Use Lease (EUL).

SUMMARY: The Secretary of VA intends to enter into an EUL for an approximately 4.0-acre parcel of land and seven buildings on the Colmery-O'Neil VA Medical Center campus of the VA Eastern Kansas Health Care System in Topeka, Kansas. As consideration, the selected lessee will be required to finance, design, develop, construct, maintain and operate a permanent supportive housing facility. The lessee will also be required to provide preference and priority placement for senior Veterans and their families, and provide on-site supportive services for resident Veterans.

FOR FURTHER INFORMATION CONTACT: Edward Bradley, Office of Asset Enterprise Management (044), Department of Veterans Affairs, 810 Vermont Avenue NW, Washington, DC 20420, (202) 461-7778 (this is not a toll-free number).

SUPPLEMENTARY INFORMATION: Title 38 U.S.C. 8161 et seq. states that the Secretary may enter into an enhanced-use lease if he determines that implementation of a business plan proposed by the Under Secretary for Health for applying the consideration under such a lease for the provision of medical care and services would result in a demonstrable improvement of services to eligible Veterans in the geographic service-delivery area within which the property is located. This project meets this requirement.

Approved: November 14, 2011.
Eric K. Shinseki,
Secretary of Veterans Affairs.

[FR Doc. 2011-30030 Filed 11-18-11; 8:45 am]

BILLING CODE 8320-01-P